DEPARTMENT OF ENERGY

Western Area Power Administration

Floodplain/Wetlands Statement of Findings for the Boyd-Valley 115-kV Transmission Line Rebuild and Upgrade Project

AGENCY: Western Area Power Administration, DOE.

ACTION: Floodplain/Wetlands statement of findings.

SUMMARY: This Floodplain/Wetlands Statement of Findings for the Boyd-Valley 115-kilovolt (kV) Transmission Line Rebuild and Upgrade Project was prepared following the U.S. Department of Energy's (DOE) Floodplain/Wetland Review Requirements (10 CFR part 1022). Western Area Power Administration (Western) is the lead Federal agency rebuilding and upgrading 2 miles of Western's existing Boyd-Valley 115-kV transmission line, that is connected to Platte River Power Authority's (PRPA) Boyd and Valley 115-kV substations. This project is located in Loveland, Colorado. PRPA plans to replace Western's existing H-frame wood pole 115-kV single-circuit transmission line with two new circuits constructed on double-circuit single-pole steel structures. The rebuild and upgrade will use the same right-of-way as the existing transmission line. This work falls within a class of action that normally does not require preparation of an environmental assessment or environmental impact statement under the Department of Energy's National Environmental Policy Act (NEPA) Implementing Procedures (10 CFR part 1021).

Based on the Federal Emergency Management Administration (FEMA) Flood Insurance Maps, the project area is within the 100-year floodplain (base flood) for the Big Thompson River. Approximately 1 mile of the project right-of-way is located within the designated 100-year floodplain.

Western prepared a floodplain/wetlands assessment describing the effects, alternatives, and measures designed to avoid or minimize potential harm to, or within, the affected floodplain and wetlands. Western will allow 15 days of public review after publication of this statement of findings before implementing the proposed action.

FOR FURTHER INFORMATION CONTACT: Mr. Rodney Jones, Environmental Specialist, Rocky Mountain Region, Western Area Power Administration, P.O. Box 3700, Loveland, CO 80539-3003, telephone (970) 461-7371, e-mail rjones@wapa.gov. For further information on DOE Floodplain/Wetlands Environmental Review Requirements, contact: Ms. Carol M. Borgstrom, Director, NEPA Policy and Compliance, EH-42, U.S. Department of Energy, 1000 Independence Avenue, SW, Washington, DC 20585, telephone (202) 586-4600 or (800) 472-2756.

SUPPLEMENTARY INFORMATION: This statement of findings for the proposal to rebuild and upgrade the Boyd-Valley transmission line was prepared following 10 CFR part 1022. A notice of floodplain involvement was published in the Federal Register on December 27, 2000 (65 FR 81858). No comments were received on the proposed floodplain/wetlands action. The proposal to rebuild and upgrade the Boyd-Valley transmission line would involve construction activities within the floodplain, including removal of 1 mile of the existing 115-kV wood pole H-frame transmission line and construction of 1 mile of new double-circuit single-pole steel transmission line. The floodplain/wetlands assessment examined the proposed rebuild and upgrade of the transmission line. The existing transmission line right-of-way is located within the 100-year floodplain. Previous stream bank stabilization and gravel mining operations have modified the floodplain in the project area. New transmission line structures associated with the rebuild would be located in approximately the same locations as the existing structures. There are no alternatives that would avoid rebuilding the transmission line within the floodplain. No watercourses or drainage patterns would be affected by implementing the project. No construction will occur within the river. Flood storage volume will not be affected. The transmission will span both the Big Thompson River and Big Thompson Ditch at the same locations as the existing transmission line.

During construction, sediments might be added to local drainages due to soil runoff, and oil or fuel might spill from malfunctioning equipment. Standard construction practices will be used to avoid or minimize effects to floodplain areas in the project area. These procedures include minimizing the size of the disturbance area to install the new transmission line structures, stream bank erosion control, measures to avoid or minimize soil erosion and sedimentation, and minimizing the potential for spills during construction activities and long-term line maintenance.

The rebuilt transmission line will span wetlands and riparian areas associated with the Big Thompson River and the nearby ditches. No disturbances to the banks or channels of surface waters are planned. Bank stabilization and historic gravel mining operations have previously modified much of the wetland areas in the project area. During construction, temporary, short-term minor effects will occur to the existing wetland/riparian habitat in the areas where the new transmission line structures are constructed. Because the new structures will be located at the approximate locations of the existing structures, the amount of wetland/riparian habitat affected by implementation of the project will be negligible. The disturbance areas associated with the project have been previously disturbed by construction of the existing transmission line, and the ongoing maintenance activities within the existing transmission line right-of-way. Other than standard construction practices, no special mitigation measures are recommended. The action will conform to applicable State or local floodplain protection standards.

Dated: January 19, 2001.
Michael S. Hacskaylo,
Administrator.

[FR Doc. 01-2764 Filed 1-31-01; 8:45 am]

BILLING CODE 6450-01-P